FEDERAL COMMUNICATIONS COMMISSION

47 CFR Part 101

[WT Docket No. 09-114; RM-11417; FCC 10-109]

Amendment of the Commission's Rules To Accommodate 30 Megahertz Channels in the 6525-6875 MHz Band; and To Provide for Conditional Authorization on Additional Channels in the 21.8-22.0 GHz and 23.0-23.2 GHz Band

AGENCY: Federal Communications Commission.

ACTION: Correcting amendments.

SUMMARY: The Federal Communications Commission (FCC) published a document in the Federal Register on July 19, 2010 (75 FR 41767), revising Commission rules. This document was subsequently corrected by the FCC in the Federal Register published on August 3, 2010 (75 FR 45496). Both documents inadvertently failed to add footnote 2 to the correct entries in the table in § 101.147(s)(7). In addition, certain entries are incorrect. This document corrects the final regulations by revising this section.

DATES: Effective June 21, 2017.

ADDRESSES: Federal Communications Commission, 445 12th Street SW., Washington, DC 20554.

FOR FURTHER INFORMATION CONTACT: John Schauble, Wireless Telecommunications Bureau, Broadband Division, at 202-418-0797 or by email to John.Schauble@fcc.gov.

SUPPLEMENTARY INFORMATION: This is a summary of the Commission's Report and Order (R&O), FCC 10-109, adopted on June 7, 2010, and released on June 11, 2010, and published in the Federal Register on July 19, 2020 (75 FR 41767). Subsequently, this document was corrected by FCC's Erratum, published in the Federal Register on August 3, 2010 (75 FR 45496). This document augments the corrections which were published in both publications in the Federal Register on July 19, 2010 and on August 3, 2010.

List of Subjects in 47 CFR Part 101

Communications equipment, Radio, Reporting and recordkeeping requirements.

Federal Communications Commission.
Marlene H. Dortch,
Secretary.

Accordingly, 47 CFR part 101 is corrected by making the following correcting amendments:

PART 101—FIXED MICROWAVE SERVICES

1. The authority citation for part 101 continues to read as follows:

Authority: 47 U.S.C. 154, 303.

2. In § 101.147, amend the table in paragraph (s)(7) as follows:

a. In the eighth row from the bottom of the table, add note ² at the end of entries “22025” and “23225”.

b. In the seventh row from the bottom of the table, add note ² at the end of entries “22075” and “23275”.

c. In the fourth row from the bottom of the table, correct the entries “22025 ²” and “23225 ²” to read as “22225” and “23425”.

d. In the third row from the bottom of the table, correct the entries “22075 ²” and “23275 ²” to read as “22275” and “23475”.

§ 101.147 Frequency Assignments.

* * * * *

(s) * * *

* * * * *

Transmit (receive) (MHz) | Receive (transmit) (MHz)
* * * * *
(7) 50 MHz bandwidth channels:
* * * * *
22025 ² | 23225 ²
22075 ² | 23275 ²
* * * * *
22225 | 23425
22275 | 23475
* * * * *
² These frequencies may be assigned to low power systems, as defined in paragraph (8) of this section.

[FR Doc. 2017-12826 Filed 6-20-17; 8:45 am]

BILLING CODE 6712-01-P